SMALL BUSINESS ADMINISTRATION

Boathouse Capital II, LP, License No. 03/03-0264; Notice Seeking Exemption Under Section 312 of the Small Business Investment Act, Conflicts of Interest

Notice is hereby given that Boathouse Capital II, L.P., 353 West Lancaster Avenue, Suite 200, Wayne, PA 19087, a Federal Licensee under the Small Business Investment Act of 1958, as amended (“the Act”), in connection with the financing of CalNet Technology Group, Inc., 420 3rd Ave NW., Hickory, NC 28601, has sought an exemption under Section 312 of the Act and 13 CFR 107.730 financings which constitute conflicts of interest of the Small Business Administration (“SBA”) Rules and Regulations. Boathouse Capital II, LP proposes to provide debt financing to CalNet Technology Group, Inc., owned by Boathouse Capital, LP, an associate as defined in Sec. 105.50 of the regulations. Therefore this transaction is considered a conflict of interest requiring SBA's prior written exemption.

Notice is hereby given that any interested person may submit written comments on the transaction, within fifteen days of the date of this publication, to the Associate Administrator for Investment, U.S. Small Business Administration, 409 Third Street SW., Washington, DC 20416.

Mark Walsh,
Associate Administrator for Office of Investment and Innovation.

[FR Doc. 2016-16701 Filed 7-13-16; 8:45 am]

BILLING CODE 8025-01-P